DEPARTMENT OF DEFENSE

Department of the Air Force

Privacy Act of 1974; System of Records

AGENCY: Department of the Air Force, DOD.

ACTION: Notice to Delete Records Systems.

SUMMARY: The Department of the Air Force proposes to delete two systems of records notices from its inventory of records systems subject to the Privacy Act of 1974 (5 U.S.C. 552a), as amended.

DATES: The action will be effective on September 13, 2000 unless comments are received that would result in a contrary determination.

ADDRESSES: Send comments to the Air Force Access Programs Manager, Headquarters, Air Force Communications and Information Center/ITC, 1250 Air Force Pentagon, Washington, DC 20330-1250.

FOR FURTHER INFORMATION CONTACT: Mrs. Anne Rollins at (703) 588-6187.

SUPPLEMENTARY INFORMATION: The Department of the Air Force's records systems notices for records systems subject to the Privacy Act of 1974 (5 U.S.C. 552a), as amended, have been published in the Federal Register and are available from the address above.

The proposed amendments are not within the purview of subsection (r) of the Privacy Act (5 U.S.C. 552a), as amended, which would require the submission of a new or altered system report for each system. The specific changes to the record system being amended are set forth below followed by the notice as amended, published in its entirety.

Dated: August 7, 2000.
C.M. Robinson,
Alternate OSD Federal Register Liaison Officer, Department of Defense.

F044 AFSG A

System name:

Aerospace Physiology Personnel Career Information System (June 11, 1997, 62 FR 31793).

Reason: Records have been destroyed.

F065 AF AFC G

System name:

Civilian Pay Records (June 11, 1997, 62 FR 31793).

Reason: These records are now covered under the Defense Finance and Accounting Service Privacy Act notice T335, Defense Civilian Pay System.

[FR Doc. 00-20474 Filed 8-11-00; 8:45 am]

BILLING CODE 5001-10-F